FEDERAL MARITIME COMMISSION

[DOCKET NO. 24-23]

Samsung Electronics America, Inc., Complainant v. HMM Co., Ltd. f/k/a Hyundai Merchant Marine Co., Ltd., Respondent. Notice of Filing of Complaint and Assignment

Served: June 5, 2024.

Notice is given that a complaint has been filed with the Federal Maritime Commission (the “Commission”) by Samsung Electronics America, Inc. (the “Complainant”) against HMM Co., Ltd. f/k/a Hyundai Merchant Marine Co., Ltd. (the “Respondent”). Complainant states that the Commission has subject matter jurisdiction over the complaint pursuant to the Shipping Act of 1984, as amended, 46 U.S.C. 40101 et seq. and personal jurisdiction over the Respondent as a common carrier and vessel-operating ocean common carrier, as these terms are defined in 46 U.S.C. 40102.

Complainant is a corporation organized and existing under the laws of the State of New York with a principal place of business in Ridgefield Park, New Jersey.

Complainant identifies Respondent as a global ocean carrier with its corporate office in Seoul, Korea, that does business in the United States through HMM America Shipping Agency, Inc. with its principal place of business in Ridgefield Park, New Jersey.

Complainant alleges that Respondent violated 46 U.S.C. 41102(c) and (d), and 41104(a)(3), (10), (14), and (15); and 46 CFR 545.4 and 545.5. Complainant alleges these violations arose from assessment of detention and demurrage charges on “store door” shipments for reasons not within the control of Complainant, issuance of invoices for detention and demurrage charges that did not contain the information required, threats to refuse and refusals of available cargo space accommodation, and other acts and omissions of the Respondents.

An answer to the complaint must be filed with the Commission within 25 days after the date of service.

The full text of the complaint can be found in the Commission's electronic Reading Room at https://www2.fmc.gov/readingroom/proceeding/24-23/. This proceeding has been assigned to the Office of Administrative Law Judges. The initial decision of the presiding judge shall be issued by June 5, 2025, and the final decision of the Commission shall be issued by December 19, 2025.

David Eng,
Secretary.

[FR Doc. 2024-12719 Filed 6-10-24; 8:45 am]

BILLING CODE 6730-02-P